DEPARTMENT OF TRANSPORTATION

Federal Aviation Administration

14 CFR Part 39

[Docket No. FAA-2021-0308; Project Identifier MCAI-2020-00594-R]

RIN 2120-AA64

Airworthiness Directives; Airbus Helicopters Deutschland GmbH (AHD) Helicopters

AGENCY: Federal Aviation Administration (FAA), DOT.

ACTION: Notice of proposed rulemaking (NPRM).

SUMMARY: The FAA proposes to adopt a new airworthiness directive (AD) for certain Airbus Helicopters Deutschland GmbH (AHD) Model BO-105A, BO-105C, BO-105S, and BO-105LS A-3 helicopters equipped with a certain hoist system. This AD was prompted by an uncommanded activation of the hoist cable cutter function on an MBB-BK117 C-1 helicopter, which prompted a design review of the BO105 hoist control grip with coiled cable. This proposed AD would require inspections of the hoist control grip with coiled cable and deactivation of the hoist cuter function, as specified in a European Aviation Safety Agency (now European Union Aviation Safety Agency) (EASA) AD, which is proposed for incorporation by reference (IBR). The FAA is proposing this AD to address the unsafe condition on these products.

DATES: The FAA must receive comments on this proposed AD by June 3, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is proposed for IBR in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0308.

Examining the AD Docket

You may examine the AD docket on the internet at https://www.regulations.gov by searching for and locating Docket No. FAA-2021-0308; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Blaine Williams, Aerospace Engineer, Cabin Safety & Environmental Systems Section, Los Angeles ACO Branch, Compliance & Airworthiness Division, 3960 Paramount Blvd., Lakewood, CA 90712; telephone (562) 627-5371; email blaine.williams@faa.gov.

SUPPLEMENTARY INFORMATION:

Comments Invited

The FAA invites you to send any written relevant data, views, or arguments about this proposal. Send your comments to an address listed under ADDRESSES. Include “Docket No. FAA-2021-0308; Project Identifier MCAI-2020-00594-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Blaine Williams, Aerospace Engineer, Cabin Safety & Environmental Systems Section, Los Angeles ACO Branch, Compliance & Airworthiness Division, 3960 Paramount Blvd., Lakewood, CA 90712; telephone (562) 627-5371; email blaine.williams@faa.gov. Any commentary that the FAA receives that is not specifically designated as CBI will be placed in the public docket for this rulemaking.

Discussion

The EASA, which is the Technical Agent for the Member States of the European Union, has issued EASA AD 2015-0017, dated February 4, 2015 (EASA AD 2015-0017) to correct an unsafe condition for all Airbus Helicopters Deutschland GmbH Model BO105 A, BO105 C, BO105 D, BO105 S and BO105 LS A-3 helicopters.

This proposed AD was prompted by uncommanded activation of the hoist cable cutter function on an MBB-BK117 C-1 helicopter which prompted a design review of the BO105 hoist control grip with coiled cable. It was determined that mechanical damage in the harness of the control grip could cause an uncommanded deployment of the cable cutter function. The FAA is proposing this AD to prevent uncommanded cutting of the hoist cable and subsequent injury to persons being lifted by the hoist and injury to persons on the ground. See the EASA AD for additional background information.

Related Service Information Under 1 CFR Part 51

For Model BO105 C, BO105 D, BO105 S and BO105 LS A-3 helicopters, EASA AD 2015-0017 specifies to perform an initial and recurring inspections of the hoist control grip with coiled cable of the hoist and depending on the results, replacing the hoist control grip with coiled cable with a serviceable part. EASA also specifies to replace any hoist control grip with coiled cable that has exceeded 10 years since first installation or since last overhaul and to deactivate the cable cutter function in accordance with referenced service information.

EASA AD 2015-0017 also specifies to not operate the hoist on any of the model BO105 A, BO105 D, variant BO105 D, and BO105 DS helicopters. For most BO105 model helicopters, except for BO105 D, variant BO105 D, and BO105 DS model helicopters, EASA specifies to amend the helicopter flight manual (FM) to incorporate the temporary revision as specified in Table 1 of the EASA AD.

This material is reasonably available because the interested parties have access to it through their normal course of business or by the means identified in the ADDRESSES section.

FAA's Determination and Requirements of This Proposed AD

These products have been approved by the aviation authority of another country, and is approved for operation in the United States. Pursuant to the bilateral agreement with the State of Design Authority, the FAA has been notified of the unsafe condition described in the EASA AD referenced above. The FAA is proposing this AD after evaluating all the relevant information and determining the unsafe condition described previously is likely to exist or develop in other products of these same type designs.

Proposed AD Requirements

This proposed AD would require accomplishing the actions specified in EASA AD 2015-0017, described previously, as incorporated by reference, except for any differences identified as exceptions in the regulatory text of this proposed AD and except as discussed under “Differences Between this Proposed AD and the EASA AD.” Additionally, the owner/operator (pilot) may perform the required visual checks but must enter compliance with the applicable paragraph of this AD in the helicopter maintenance records in accordance with 14 CFR 43.9(a)(1) through (4) and 91.417(a)(2)(v). A pilot may perform these checks because they only involve visually checking affected control grips with coiled cable. This action can be performed equally well by a pilot or a mechanic. This check is an exception to the FAA's standard maintenance regulations.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2015-0017 will be incorporated by reference in the FAA final rule. This proposed AD would, therefore, require compliance with EASA AD 2015-0017 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2015-0017 that is required for compliance with EASA AD 2015-0017 will be available on the internet at https://www.regulations.gov by searching for and locating Docket No. FAA-2021-0308 after the FAA final rule is published.

Differences Between This Proposed AD and the EASA AD

Where EASA AD 2015-0017 refers to its effective date, this proposed AD requires using the effective date of the FAA AD. Where EASA AD 2015-0017 specifies this unsafe condition for Airbus Helicopters Deutschland GmbH Model BO105 A, BO105 C, BO105 D, BO105 S and BO105 LS A-3 helicopters, this proposed AD will not include Model BO-105 D helicopters, because this model is not FAA type-certificated. Where EASA AD 2015-0017 specifies replacing an affected part, this proposed AD requires removing the part from service. Where the service information referenced in the EASA AD refers to calendar time for certain actions, this proposed AD uses hours time-in-service instead. The EASA AD allows a tolerance to certain compliance times, whereas this proposed AD does not. The EASA AD requires using service information to accomplish the preflight checks of the control grip with coil cable, whereas this proposed AD would require visually checking the condition of the control grip and coiled cable for mechanical damage including deformed or damaged switches, damaged housing, abrasion, cracks, and cuts instead.

Interim Action

The FAA considers this proposed AD interim action. If final action is later identified, the FAA might consider further rulemaking then.

Costs of Compliance

The FAA estimates that this AD affects 20 helicopters of U.S. Registry. Labor rates are estimated at $85 per work-hour. Based on these numbers, the FAA estimates that operators may incur the following costs in order to comply with this proposed AD.

Inspecting the hoist control grip with coiled cable would take up to one quarter work-hour(s) for an estimated cost of $21 per helicopter and $420 for the U.S. fleet, per inspection cycle.

Replacing the hoist control grip would take about 1 work-hour and parts cost $1,956 for an estimated cost of $2,041 per helicopter.

Replacing the coiled cable would take about 2 work-hours and parts cost $1,858 for an estimated cost of $2,028 per helicopter.

Deactivation of the cable cutter function would take about 1 work hour and parts would cost about $26 for an estimated cost $111 per hoist control grip.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters Deutschland GmbH (AHD): Docket No. FAA-2021-0308; Project Identifier MCAI-2020-00594-R.

(a) Comments Due Date

The FAA must receive comments by June 3, 2021.

(b) Affected Airworthiness Directives (ADs)

None.

(c) Applicability

This AD applies to Airbus Helicopters Deutschland GmbH (AHD) Model BO-105A, BO-105C, BO-105S, and BO-105LS A-3 helicopters, certificated in any category, as identified in European Aviation Safety Agency (now European Union Aviation Safety Agency) (EASA) AD 2015-0017 dated February 4, 2015 (EASA AD 2015-0017).

(d) Subject

Joint Aircraft System Component (JASC) Code: 2500, Cabin Equipment/Furnishings.

(e) Reason

This AD was prompted by uncommanded activation of the hoist cable cutter function on an MBB-BK117 C-1 helicopter which prompted a design review of the BO105 hoist control grip with coiled cable. The FAA is issuing this AD to prevent uncommanded cutting of the hoist cable and subsequent injury to persons being lifted by the hoist and injury to persons on the ground.

(f) Compliance

Comply with this AD within the compliance times specified, unless already done.

(g) Requirements

Except as specified in paragraph (h) of this AD: Comply with all required actions and compliance times specified in, and in accordance with, EASA AD 2015-0017.

(h) Exceptions to EASA AD 2015-0017

(1) Where EASA AD 2015-0017 refers to its effective date, this AD requires using the effective date of this AD.

(2) Where Note 1 of EASA AD 2015-0017 specifies a non-cumulative compliance time tolerance of 10% for certain required compliance times, this AD does not allow this tolerance.

(3) Where paragraph (1) of EASA AD 2015-0017 specifies a compliance time of “not to exceed 30 days”, this AD requires a compliance time of within 13 hours time-in-service.

(4) Where paragraph (4) of EASA AD 2015-0017 specifies a compliance time of “within 9 months”, this AD requires a compliance time of within 108 hours time-in-service.

(5) Where paragraph (5) of EASA AD 2015-0017 specifies a compliance time of “within 3 months”, this AD requires a compliance time of within 36 hours time-in-service.

(6) Where paragraph (3) of EASA AD 2015-0017 specifies replacing a part with a serviceable part, this AD requires removing the part from service.

(7) Where the service information referenced in EASA AD 2015-0017 specifies to use tooling, equivalent tooling may be used.

(8) Where the service information referenced in paragraph (2) of EASA AD 2015-0017 specifies a visual check of the control grip coiled cable, this AD requires, before next flight after the effective date of this AD involving a hoist operation, visually checking the control grip with coiled cable for mechanical damage including deformed or damaged switches, damaged housing, abrasion, cracks, and cuts. These visual checks may be performed by the owner/operator (pilot) holding at least a private pilot certificate and must be entered into the aircraft records showing compliance with this AD in accordance with 14 CFR 43.9(a)(1) through (4) and 14 CFR 91.417(a)(2)(v). The record must be maintained as required by 14 CFR 91.417, 121.380, or 135.439.

(9) Where EASA AD 2015-0017 refers to November 10, 2014, the effective date of EASA AD 2014-0235, this AD requires using the effective date of this AD.

(10) The “Remarks” section of EASA AD 2015-0017 does not apply to this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(2) of this AD. Information may be emailed to: 9-AVS-AIR-730-AMOC@faa.gov.

(2) Before using any approved AMOC, notify your appropriate principal inspector, or lacking a principal inspector, the manager of the local flight standards district office/certificate holding district office.

(j) Related Information

(1) For EASA AD 2015-0017, contact the EASA, Konrad-Adenauer-Ufer 3, 50668 Cologne, Germany; telephone +49 221 8999 000; email ADs@easa.europa.eu; internet www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0308.

(2) For more information about this AD, contact Blaine Williams, Aerospace Engineer, Cabin Safety & Environmental Systems Section, Los Angeles ACO Branch, Compliance & Airworthiness Division, 3960 Paramount Blvd., Lakewood, CA 90712; telephone (562) 627-5371; email blaine.williams@faa.gov.

Issued on April 12, 2021.
Lance T. Gant,
Director, Compliance & Airworthiness Division, Aircraft Certification Service.

[FR Doc. 2021-07800 Filed 4-16-21; 8:45 am]

BILLING CODE 4910-13-P